DEPARTMENT OF ENERGY

Federal Energy Regulatory Commission

Sunshine Act Meeting

September 19, 2001.

The following notice of meeting is published pursuant to Section 3(a) of the Government in the Sunshine Act (Pub. L. No. 94-409), 5 U.S.C. 552b:

Agency Holding Meeting: Federal Energy Regulatory Commission.

Date and Time: September 26, 2001 (Following Regular Commission Meeting).

Place: Room 2C, 888 First Street, NE., Washington, DC 20426.

Status: Closed.

Matters to be Considered: (1) The Possible Initiation of an Administrative Proceeding. (2) A Report on Pending Investigations.

Contact Person for More Information: David P. Boergers, Secretary Telephone (202) 208-0400.

David P. Boergers,
Secretary.

[FR Doc. 01-23911 Filed 9-20-01; 2:08 pm]

BILLING CODE 6717-01-P